DEPARTMENT OF COMMERCE

National Oceanic and Atmospheric Administration

50 CFR Part 648

[Docket No. 151211999-6343-02]

RIN 0648-XF256

Fisheries of the Northeastern United States; Northeast Multispecies Fishery; Trip Limit Increase for the Common Pool Fishery

AGENCY: National Marine Fisheries Service (NMFS), National Oceanic and Atmospheric Administration (NOAA), Commerce.

ACTION: Temporary rule; inseason adjustment.

SUMMARY: This action increases the possession and trip limit for Gulf of Maine cod and haddock for Northeast multispecies common pool vessels for the remainder of the 2016 fishing year. The most recent catch data indicate that the common pool is not expected to fully harvest its annual quota for these stocks at the current trip limits. Increasing the possession and trip limits is intended to provide the common pool fishery with additional fishing opportunities through the end of the fishing year.

DATES: The possession and trip limit increase is effective March 16, 2017, through April 30, 2017.

FOR FURTHER INFORMATION CONTACT: Spencer Talmage, Fishery Management Specialist, 978-281-9232.

SUPPLEMENTARY INFORMATION: The regulations at § 648.86(o) authorize the Regional Administrator to adjust the possession and trip limits for common pool vessels in order to help prevent the overharvest or underharvest of the common pool quotas.

Based on information reported through February 18, 2017, the common pool fishery has caught approximately 42 and 25 percent of its annual quotas for Gulf of Maine (GOM) cod and GOM haddock, respectively. At the current rate of fishing, the common pool fishery is not projected to fully harvest its annual quota for either stock by the end of the 2016 fishing year. A moderate increase in the possession and trip limits for both stocks will provide additional opportunities with little risk of exceeding the common pool sub-ACL of either stock.

To allow the common pool fishery to catch more of its quota for this GOM cod and haddock, effective March 16, 2017, the possession and trip limit of GOM cod and GOM haddock are increased, as summarized in Table 1 below. Common pool groundfish vessels that have declared their trip through the vessel monitoring system (VMS) or interactive voice response system, and crossed the VMS demarcation line prior to March 16, 2017, may land at the new possession and trip limits for that trip.

Table 1—New Possession/Trip Limits
Stock | Permit type | Current possession/trip limits | New possession/trip limits
GOM cod | Day-At-Sea (DAS) | 25 lb (11.34 kg) per DAS, up to 100 lb (45.36 kg) per trip | 100 lb (45.36 kg) per trip.
| Handgear A | 25 lb (11.34 kg) per trip | 100 lb (45.36 kg) per trip.
| Handgear B | 25 lb (11.34 kg) per trip | unchanged.
| Small Vessel Category | 25 lb (11.34 kg) per trip, within combined 300 lb trip limit for GOM cod, haddock, and yellowtail flounder | unchanged.
GOM haddock |  | 200 lb (90.72 kg) per DAS, up to 600 lb (272.16 kg) per trip | 500 lb (226.80 kg) per DAS, up to 1,000 lb (453.59 kg) per trip.

Weekly quota monitoring reports for the common pool fishery can be found on our Web site at: http://www.greateratlantic.fisheries.noaa.gov/ro/fso/MultiMonReports.htm. We will continue to monitor common pool catch through vessel trip reports, dealer-reported landings, VMS catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The regulations at § 648.86(o) authorize the Regional Administrator to adjust the Northeast multispecies possession and trip limits for common pool vessels in order to help prevent the overharvest or underharvest of the pertinent common pool quotas. The catch data used as the basis for this action only recently became available. The available analysis indicates that the possession and trip limit increase for both GOM cod and GOM haddock will help to ensure that the fishery may achieve the optimum yield (OY) for these stocks. As a result, the time necessary to provide for prior notice and comment, and a 30-day delay in effectiveness, would prevent NMFS from implementing the necessary possession and trip limit adjustment in a timely manner, which could prevent the fishery from achieving the OY, and cause negative economic impacts to the common pool fishery.

Authority: 16 U.S.C. 1801 et seq.

Dated: March 16, 2017.
Emily H. Menashes,
Acting Director, Office of Sustainable Fisheries, National Marine Fisheries Service.

[FR Doc. 2017-05550 Filed 3-16-17; 4:15 pm]

BILLING CODE 3510-22-P